DEPARTMENT OF HEALTH AND HUMAN SERVICES

Substance Abuse and Mental Health Services Administration

Center for Substance Abuse Prevention: Notice of Meeting

Pursuant to Pub. L. 92-463, notice is hereby given that the Substance Abuse and Mental Health Services Administration's (SAMHSA) Center for Substance Abuse Prevention (CSAP) Drug Testing Advisory Board (DTAB) will meet in person and via web conference on March 20, 2017, from 9:00 a.m. to 5:00 p.m. EDT and March 21, 2017 from 9:00 a.m. to 2:00 p.m. EDT.

The Board will meet in open session on March 20, 2017, from 9:00 a.m. to 2:00 p.m. , to provide updates on the Mandatory Guidelines for Federal Workplace Drug Testing Programs, provide data on hair testing programs currently in use in the private sector, research data on marijuana edibles, and the most current data from Quest Diagnostics Drug Testing Index.

The board will meet in closed session on March 20, 2017, from 2:00 p.m. to 5:00 p.m. EDT and on March 21, 2017, from 9:00 a.m. to 2:00 p.m. EDT to hear about current confidential practices in the hair testing industry, and to discuss proposals for the Oral Fluid Mandatory Guidelines for Federal Workplace Drug Testing Programs. Therefore, these portions of the meeting are closed to the public as determined by the Administrator, SAMHSA, in accordance with 5 U.S.C. 552b(c)(4) and (9)(B), and 5 U.S.C. App. 2, Section 10(d).

Meeting information and a roster of DTAB members may be obtained by accessing the SAMHSA Advisory Committees Web site, http://www.samhsa.gov/about-us/advisory-councils/drug-testing-advisory-board-dtab, or by contacting Brian Makela.

Committee Name: Substance Abuse and Mental Health Services Administration's Center for Substance Abuse Prevention Drug Testing Advisory Board.

Dates/Time/Type: March 20, 2016, from 9:00 a.m. to 2:00 p.m., EDT: OPEN. March 20, 2016, from 2:00 p.m. to 5:00 p.m., EDT: CLOSED. March 21, 2016, from 9:00 a.m. to 2:00 p.m., EDT: CLOSED.

Place: Parklawn Building, Room 5W07, 5600 Fishers Lane, Rockville, Maryland 20857.

Contact: Brian Makela, Division of Workplace Programs, 5600 Fishers Lane, Room 16N02B, Rockville, Maryland 20857, Telephone: 240-276-2600, Fax: 240-276-2610, Email: brian.makela@samhsa.hhs.gov.

Brian Makela,
Chemist, Substance Abuse and Mental Health Services Administration.

[FR Doc. 2017-03480 Filed 2-22-17; 8:45 am]

BILLING CODE 4162-20-P